DEPARTMENT OF HEALTH AND HUMAN SERVICES

Centers for Disease Control and Prevention

Disease, Disability, and Injury Prevention and Control, Special Emphasis Panel (SEP): Health Promotion and Disease Prevention Research Centers: Special Interest Project Competitive Supplements, Request for Applications (RFA) DP06-003

In accordance with section 10(a)(2) of the Federal Advisory Committee Act (Pub. L. 92-463), the Centers for Disease Control and Prevention (CDC) announces the following meeting:

Name: Disease, Disability, and Injury Prevention and Control, Special Emphasis Panel (SEP): Health Promotion and Disease Prevention Research Centers: Special Interest Project Competitive Supplements, RFA DP06-003.

Times and Dates:

8 a.m.-8:15 a.m., June 26, 2006 (Open). 8:15 a.m.-12:30 p.m., June 26, 2006 (Closed).

1 p.m.-1:15 p.m., June 26, 2006 (Open).

1:15 p.m.-6 p.m., June 26, 2006 (Closed).

8 a.m.-8:15 a.m., June 30, 2006 (Open).

8:15 a.m.-2 p.m., June 30, 2006 (Closed).

2:30 p.m.-2:45 p.m., June 30, 2006 (Open).

2:45 a.m.-6 p.m., June 30, 2006 (Closed).

Place: Teleconference.

Status: The meeting will be closed to the public in accordance with provisions set forth in Section 552b(c) (4) and (6), Title 5 U.S.C., and the Determination of the Director, Management Analysis and Services Office, CDC, pursuant to Public Law 92-463.

Matters to be Discussed: To conduct expert review of scientific and technical merit of research applications in response to “Health Promotion and Disease Prevention Research Centers: Special Interest Project Competitive Supplements,” RFA DP06-003.

For Further Information Contact: Gwen Cattledge, Ph.D., Scientific Review Administrator, Centers for Disease Control and Prevention, 4770 Buford Highway, Mailstop K02, Atlanta, GA 30341, Telephone 404.639.4640.

The Director, Management Analysis and Services Office, has been delegated the authority to sign Federal Register notices pertaining to announcements of meetings and other committee management activities, for both CDC and the Agency for Toxic Substances and Disease Registry.

Dated: May 30, 2006.
Alvin Hall,
Director, Management Analysis and Services Office, Centers for Disease Control and Prevention.

[FR Doc. E6-8902 Filed 6-7-06; 8:45 am]

BILLING CODE 4163-18-P